DEPARTMENT OF THE INTERIOR

Minerals Management Service

Extension of Comment Period on the Draft Proposed 5-Year Outer Continental Shelf (OCS) Oil and Gas Leasing Program for 2010-2015 (DPP) and Notice of Intent To Prepare an Environmental Impact Statement (EIS) for the Proposed 5-Year Program

AGENCY: Minerals Management Service, Interior.

ACTION: Extension of Time for Request for Comments.

SUMMARY: On February 10, 2009, the Secretary of the Interior announced a new comprehensive approach to the Nation's offshore energy plan, which includes four parts and affects the Draft Proposed 5-year OCS Oil and Gas Leasing Program for 2010-2015 (DPP), published on January 16, 2009, by the previous Administration. The Secretary's four steps are—

○ An additional 180 days for public comment on the DPP and the Notice of Intent to Prepare an EIS for the proposed 5-year program to September 21, 2009;

○ Preparation by MMS and the U.S. Geological Survey of a report setting forth all the information available on our offshore energy resources, with the report to be completed within 45 days of the Secretary's announcement;

○ Regional meetings to be convened by the Secretary on each coast and in Alaska to gather the best ideas for how to move forward with a comprehensive offshore energy plan, with the meetings to occur in the 30 days following completion of the report; and

○ Commitment by the Secretary to issuing a final rulemaking on offshore renewable energy resources in the coming months.

This Federal Register Notice announces the 180-day extension of time for receipt of comments on the DPP and the Notice of Intent to Prepare an EIS for the proposed 5-year program. The original comment period was announced in the Federal Register on January 21, 2009 (74 FR 3631) with a closing date of March 23, 2009. The new closing date is September 21, 2009. The additional time will give states, stakeholders, and affected communities the opportunity to provide input on how, whether, and where the Nation's offshore areas should be considered as part of the Nation's energy strategy.

Section 18 of the OCS Lands Act (43 U.S.C. 1344) specifies a multi-step process of consultation and analysis that must be completed before the Secretary of the Interior may approve a new 5-year program. The required steps following this notice include the development of a proposed program, a proposed final program, and Secretarial approval. Pursuant to the National Environmental Policy Act (NEPA), the MMS also will prepare an EIS for the new 5-year program. The notice in the Federal Register on January 21, 2009 (74 FR 3631) started the formal scoping process for the EIS under 40 CFR 1501.7, and solicited information regarding issues and alternatives that should be evaluated in the EIS. The EIS will analyze the potential impacts of the adoption of the proposed 5-year program.

DATES: Please submit comments and information to the MMS no later than September 21, 2009.

Public Comment Procedure

The MMS will accept comments in one of two formats: By mail or our Internet commenting system. Please submit your comments using only one of these formats, and include full names and addresses. Comments submitted by other means may not be considered. Before including your address, phone number, e-mail address, or other personal identifying information in your comment, you should be aware that your entire comment—including your personal identifying information—may be made publicly available at any time. While you can ask us in your comment to withhold your personal identifying information from public review, we cannot guarantee that we will be able to do so.

ADDRESSES: You may submit comments on the DPP and/or the Notice of Intent by any of the following methods.

• Federal eRulemaking Portal: http://www.regulations.gov. Under the tab “More Search Options,” click “Advanced Docket Search,” then select “Minerals Management Service” from the agency drop-down menu, then click the submit button. In the Docket ID column, select MMS-2008-OMM-0045 to submit public comments and to view related materials available for the DPP or MMS-2008-OMM-0046 to submit public comments and to view related materials available for the Notice of Intent to Prepare an EIS. Information on using Regulations.gov, including instructions for accessing documents, submitting comments, and viewing the docket after the close of the comment period, is available through the site's “User Tips” link. The MMS will post all comments.

• Mail or hand-carry comments on the DPP to the Department of the Interior, Minerals Management Service, Attention: Leasing Division (LD), 381 Elden Street, MS-4024, Herndon, Virginia 20170-4817. Please reference “2010-2015 Oil and Gas Leasing in the Outer Continental Shelf,” in your comments and include your name and return address. Comments on the Notice of Intent to Prepare an EIS should be mailed or hand-carried to Mr. J.F. Bennett, Chief, Branch of Environmental Assessment, Minerals Management Service, 381 Elden Street, MS 4042, Herndon, Virginia 20170.

FOR FURTHER INFORMATION CONTACT: Renee Orr, 5-Year Program Manager, at 703-787-1215 for the DPP; or James Bennett, Chief, Branch of Environmental Assessment, at 703-787-1600 for the Notice of Intent to Prepare an EIS.

Dated: February 25, 2009.
Walter D. Cruickshank,
Acting Director, Minerals Management Service.

[FR Doc. E9-4581 Filed 3-3-09; 8:45 am]

BILLING CODE 4310-MR-P